EXPORT-IMPORT BANK

[Public Notice 2016-3017]

Agency Information Collection Activities: Comment Request

AGENCY: Export-Import Bank of the United States.

ACTION: New Submission for OMB review and Final comments request.

Form Title: EIB 15-04 Exporter's Certificate for Co-Financed Loan, Guarantee & MT Insurance Programs.

SUMMARY: The Export-Import Bank of the United States (Ex-Im Bank), as part of its continuing effort to reduce paperwork and respondent burden, invites the general public and other Federal Agencies to comment on the proposed information collection, as required by the Paperwork Reduction Act of 1995.

Ex-Im Bank's borrowers, financial institution policy holders and guaranteed lenders provide this form to U.S. exporters, who certify to the eligibility of their exports for Ex-Im Bank support. For direct loans and loan guarantees, the completed form is required to be submitted at time of disbursement and held by either the guaranteed lender or Ex-Im Bank. For MT insurance, the completed forms are held by the financial institution, only to be submitted to Ex-Im Bank in the event of a claim filing.

Ex-Im Bank uses the referenced form to obtain exporter certifications regarding the export transaction, content sourcing, and their eligibility to participate in USG programs with respect to co-financed transactions. These details are necessary to determine the value and legitimacy of Ex-Im Bank financing support and claims submitted. It also provides the financial institutions a check on the export transaction's eligibility at the time it is fulfilling a financing request.

The information collection tool can be reviewed at: http://www.exim.gov/sites/default/files/pub/pending/eib15-04.pdf.

DATES: Comments must be received on or before May 9, 2016 to be assured of consideration.

ADDRESSES: Comments may be submitted electronically on WWW.REGULATIONS.GOV or by mail to Office of Information and Regulatory Affairs, 725 17th Street NW., Washington, DC 20038 Attn: OMB 3048-00XX EIB15-04.

SUPPLEMENTARY INFORMATION: Title and Form Number: EIB 15-04 Exporter's Certificate for Co-Financed Loan, Guarantee & MT Insurance Programs.

OMB Number: 3048-00XX.

Type of Review: Regular.

Need and Use: The information collected will allow Ex-Im Bank to determine compliance and content for transaction requests submitted to Ex-Im Bank under its co-financed insurance, guarantee, and direct loan programs.

Affected Public: This form affects entities involved in the export of U.S. goods and services.

Annual Number of Respondents: 30.

Estimated Time per Respondent: 30 minutes.

Annual Burden Hours: 15 hours.

Frequency of Reporting of Use: As required.

Government Expenses:

Reviewing time per year: 0.5 hours.

Average Wages per Hour: $42.50.

Average Cost per Year (time*wages): $21.25.

Benefits and Overhead: 20%.

Total Government Cost: $25.5.

Bonita Jones-McNeil,
Program Analyst, Agency Clearance Officer, Office of the Chief Information Officer.

[FR Doc. 2016-08088 Filed 4-7-16; 8:45 am]

BILLING CODE 6690-01-P